DEPARTMENT OF JUSTICE

Notice of Lodging of Proposed Amended Consent Decree Under the Clean Water Act

On October 27, 2016, the Department of Justice lodged a proposed amended consent decree with the United States District Court for the Middle District of Pennsylvania in the lawsuit entitled United States v. Sewer Authority of the City of Scranton, Civil Action No. 3:09-cv-1873.

The United States filed this lawsuit under the Clean Water Act in 2009, seeking injunctive relief and civil penalties for violations of the Clean Water Act relating to the municipal wastewater treatment plant and collection system owned and operated by the Scranton Sewer Authority. The litigation was resolved on January 31, 2013 when the court entered a consent decree that requires the Scranton Sewer Authority to implement a long term control plan to address combined sewer overflows by December 1, 2037. The Scranton Sewer Authority now proposes to sell its wastewater treatment plant and collection system, and to transfer the remaining obligations under the consent decree, to Pennsylvania American Water Company. The proposed amended consent decree would substitute Pennsylvania American Water Company as the defendant to the consent decree, and release the Scranton Sewer Authority from its obligations, in the event that the proposed sale of the treatment plant and collection system proceeds to closing on or before March 31, 2017.

The publication of this notice opens a period for public comment on the amended consent decree. Comments should be addressed to the Assistant Attorney General, Environment and Natural Resources Division, and should refer to United States v. Scranton Sewer Authority, D.J. Ref. No. 90-5-1-1-08778. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the amended consent decree upon written request and payment of reproduction costs. Please mail your request and payment to: Consent Decree Library, U.S. DOJ—ENRD, P.O. Box 7611, Washington, DC 20044-7611.

Please enclose a check or money order for $49.75 (25 cents per page reproduction cost) payable to the United States Treasury. For a paper copy without the exhibits and signature pages, the cost is $12.00.

Robert Brook,
Assistant Section Chief, Environmental Enforcement Section, Environment and Natural Resources Division.

[FR Doc. 2016-26430 Filed 11-1-16; 8:45 am]

BILLING CODE 4410-15-P